DEPARTMENT OF HOUSING AND URBAN DEVELOPMENT

[Docket No. FR-5478-N-02]

Privacy Act of 1974: Notice of New System of Records, Integrated Disbursement & Information System (IDIS) System

AGENCY: Department of Housing and Urban Development.

ACTION: Notice of a new System of Records, Integrated Disbursement & Information System (IDIS).

SUMMARY: IDIS is an existing grant management system used currently by grantees of seven formula grant programs managed by CPD. The first four are Community Development Block Grant (CDBG), HOME Investment Partnerships (HOME), Emergency Shelter Grants (ESG), and Housing Opportunities for Persons with AIDS formula (HOPWA) programs. IDIS also supports three special grants established by the 2009 American Recovery and Reinvestment Act (ARRA) including Tax Credit Assistance Program (TCAP), Community Development Block Grant-Recovery (CDBG-R), and Homelessness Prevention & Rapid Re-housing Program (HPRP). All these grant programs have requirements that must be met. Collecting information to determine if each program's money was spent on eligible activities also verify that these grantees are complying with all the statutory regulations in using grant funds.

DATES: Effective Date: This proposal shall become effective May 11, 2011, unless comments are received on or before that date which would result in a contrary determination.

Comment Due Date: May 11, 2011.

ADDRESSES: Office of Community Planning and Development, 451 7th Street, SW., Washington, DC 20410.

FOR FURTHER INFORMATION CONTACT: Donna Robinson-Staton, Departmental Privacy Officer, 451 Seventh Street, SW., Room 2256, Washington, DC 20410, Telephone Number (202) 402-8047. For more information: Robert T. Brever, Community Planning and Development, 451 7th Street, SW., Room 7224, Washington, DC 20410, Telephone Number (202) 402-8138. A telecommunications device for hearing-and speech-impaired persons (TTY) is available at 1-800-877-8339 (Federal Information Relay Services). (This is a toll-free number.)

SUPPLEMENTARY INFORMATION: Title 5 U.S.C. section 552a(e)(4) and (11) provide that the public be given a 30-day period in which to comment on the proposed new system. The Office of Management and Budget (OMB), which has oversight responsibilities under the Act, requires a 30-day period in which to conclude its review of the system. Therefore, please submit any comments by March 31, 2011. In accordance with 5 U.S.C. 552a(r) and OMB Cir. A-130, the Department has provided a report to OMB and the Congress on the proposed modification.

Dated: March 31, 2011.
Jerry E. Williams,
Chief Information Officer.

HUD/H-8

System Name:

Integrated Disbursement & Information System (IDIS).

System Location:

Online at http://www.hud.gov/offices/cpd/systems/idis/idis.cfm.

Physically located at HUD Headquarters.

Categories of individuals covered by the system:

Beneficiaries under the HOME program's Homebuyers, Homeowner Rehab, and Rental activities.

Categories of Records in the System:

The names of the owners of the buildings by address, the income category, and racial characteristics are collected for the Home program.

Authority for maintenance of the system:

Statute: HOME Investment Partnerships Act—Title II Cranston Gonzalez National Affordable Housing Act Public Law 101-625; Home Regulations 24 CFR part 92; PRA OMB Control 2506-0171.

Purposes:

IDIS is an existing grants management system used currently by grantees of seven formula grant programs managed by CPD. The first four are Community Development Block Grant (CDBG), HOME Investment Partnerships (HOME), Emergency Shelter Grants (ESG), and Housing Opportunities for Persons with AIDS formula (HOPWA) programs. IDIS also supports three special grants established by the 2009 American Recovery and Reinvestment Act (ARRA) including Tax Credit Assistance Program (TCAP), Community Development Block Grant-Recovery (CDBG-R), and Homelessness Prevention & Rapid Re-housing Program (HPRP). All of these grants programs have review requirements that must be met. Collecting the information is necessary to determine if each program's money was spent on eligible activities as well as verify that grantees are complying with all the statutory and regulatory provisions in the use of the grants funds.

Routine uses of records maintained in the system, including categories of users and the purposes of such uses:

Grantees have access only to information for their own grant funded activities. They report to HUD on the activities on which grant funds are used, draw program funds, and report on activity accomplishments. HUD staff has access to information for all grantees for which they are responsible. HUD staff access the system for the purposes of monitoring grantee performance and to help determine what activities should be reviewed via on-site monitoring visits.

Storage:

Electronic files are stored on servers located at an offsite, contractor owned and operated data center (HITS Contract). Data is backed up to a secure off site disaster recovery facility (HITS Contract).

Retrievability:

Information is retrieved by activity. The personal information is stored as accomplishment information for an activity.

Safeguards:

Electronic records are maintained in a secured computer network behind a firewall. Access to records is limited to authorized personnel. Personable Identifiable Information (PII) does not appear on any generated reports. CPD staff review all information before responding to FOIA request to verify that Personable Identifiable Information (PII) is not being released. If the Department suspects or has confirmed that the security or confidentiality of information in the system of records has been compromised; or if the Department has determined that as a result of the suspected or confirmed compromise there is a risk of harm to economic or property interests, identity theft or fraud, or harm to the security or integrity of this system, then the disclosure made to such agencies, entities, and persons is reasonably necessary to assist in connection with the HUD's efforts to respond to the suspected or confirmed compromise and prevent, minimize, or remedy such harm.

Retention and disposal:

Currently records are maintained indefinitely.

System manager(s) and address:

Robert T. Brever, Community Planning and Development, 451 7th Street, SW., Room 7224, Washington, DC 20410.

Notification Procedures:

For information, assistance, or inquiry about the existence of records, contact the Privacy Act Officer at the Department of Housing and Urban Development, 451 7th Street, SW., Washington, DC. Written requests must include the full name, Social Security Number, date of birth, current address, and telephone number of the individual making the request.

Contesting record procedures:

Procedures for the amendment or correction of records and for applicants wanting to appeal initial agency determination appear in 24 CFR part 16.

Record source categories:

Information is collected only from Grantees.

Exemptions from certain provisions of the Act:

None.

[FR Doc. 2011-8484 Filed 4-8-11; 8:45 am]

BILLING CODE 4210-67-P